DEPARTMENT OF JUSTICE

Notice of Lodging of Proposed Consent Decree Under The Clean Water Act

On February 19, 2020, the Department of Justice lodged a proposed consent decree with the United States District Court for the Eastern District of New York in the lawsuit entitled United States of America and State of New York v. Village of Northport, Civil Action No. 20-CV-890.

In this action the United States seeks, as provided under the Clean Water Act, 33 U.S.C. 1251, et seq., civil penalties and injunctive relief from the Village of Northport (Northport) in connection with its failure to comply with the municipal separate storm sewer system permit and EPA administrative orders. The proposed Consent Judgment resolves the United States' claims and requires Northport to pay $125,000 and imposes injunctive relief.

The publication of this notice opens a period for public comment on the proposed consent decree. Comments should be addressed to the Assistant Attorney General, Environment and Natural Resources Division, and should refer to United States of America and State of New York v. Village of Northport, D.J. Ref. No. 90-5-1-1-11187. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, D.C. 20044-7611

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $13.00 (25 cents per page reproduction cost) payable to the United States Treasury.

Henry Friedman,
Assistant Section Chief, Environmental Enforcement Section, Environment and Natural Resources Division.

[FR Doc. 2020-03740 Filed 2-24-20; 8:45 am]

BILLING CODE 4410-15-P